DEPARTMENT OF THE INTERIOR

Bureau of Land Management

[AZAR 010997]

Public Land Order No. 7568; Partial Revocation of Pubic Land Order No. 3263; Arizona

AGENCY: Bureau of Land Management, Interior.

ACTION: Public land order.

SUMMARY: This order partially revokes a public land order insofar as it affects approximately 720 acres of National Forest System lands withdrawn for the Clay-Gravel Plots, Pinal Mountain Plot, and Summit Watersheds Research Areas. The Forest Service has determined that the withdrawal is no longer needed on these areas. This action will open the lands to mining.

EFFECTIVE DATE: July 3, 2003.

FOR FURTHER INFORMATION CONTACT: Cliff Yardley, BLM Arizona State Office, 222 North Central Avenue, Phoenix, Arizona 85004-2203, 602-417-9437.

SUPPLEMENTARY INFORMATION: The Forest Service has determined that the withdrawal is no longer needed on these research areas and has requested the revocation.

Order

By virtue of the authority vested in the Secretary of the Interior by Section 204 of the Federal Land Policy and Management Act of 1976, 43 U.S.C. 1714 (1994), it is ordered as follows:

1. Public Land Order No. 3263, which withdrew National Forest System lands in aid of various Forest System programs, is hereby revoked insofar as it affects the following described lands:

Tonto National Forest

Clay-Gravel Plots Research Area

Gila and Salt River Meridian

T. 5 N., R. 12 E.,

Sec. 17, SE¼;

Sec. 28, NE¼NW¼ and NW¼NE¼.

Pinal Mountain Plot Research Area

T. 1 S., R. 15 E.,

Sec. 27, NE¼.

Summit Watersheds Research Area

T. 2 N., R. 14 E.(unsurveyed),

Sec. 3, SW¼NW¼;

Sec. 4, NE¼NW¼ and NE¼.

T. 3 N., R. 14 E.,

Sec. 33, SE¼SW¼ and SW¼SE¼.

The areas described aggregate approximately 720 acres in Gila County.

2. At 10 a.m. on July 3, 2003, the lands will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: May 2, 2003.
Rebecca W. Watson,
Assistant Secretary—Land and Minerals Management.

[FR Doc. 03-13773 Filed 6-2-03; 8:45 am]

BILLING CODE 3410-11-P